COUNCIL ON ENVIRONMENTAL QUALITY

40 CFR Part 1506

Other Requirements of NEPA

AGENCY: Council on Environmental Quality, Executive Office of the President.

ACTION: Final rule.

SUMMARY: Change existing US postal address at 40 CFR 1506.9 to update and add second address to facilitate deliveries made in-person or by commercial express mail service.

DATES: Effective July 18, 2005.

ADDRESSES: Council on Environmental Quality, 722 Jackson Place, NW., Washington, DC 20503.

FOR FURTHER INFORMATION CONTACT: Dinah Bear, General Counsel, Council on Environmental Quality, 722 Jackson Place, NW., Washington, DC 20503. Telephone: (202) 395-7421.

SUPPLEMENTARY INFORMATION: The address in the Filing requirements section at 40 CFR 1506.9 has been changed and an alternative address has been added. The address change is an update. The alternative address has been added to facilitate deliveries made in-person or by commercial express mail services, including Federal Express or UPS. The language in all other sections of Part 1506 remains the same.

List of Subjects in 40 CFR 1506

Environmental impact statements.

For the reasons set forth in the preamble, Part 1506 of Title 40 of the Code of Federal Regulations is amended to read as follows:

PART 1506—OTHER REQUIREMENTS OF NEPA

1. The authority citation for Part 1506 continues to read as follows:

Authority: NEPA, the Environmental Quality Improvement Act of 1970, as amended (42 U.S.C. 4371 et seq.), sec. 309 of the Clean Air Act, as amended (42 U.S.C. 7609), and E.O. 11514 (Mar. 5, 1970, as amended by E.O. 11991, May 24, 1977).

2. Revise § 1506.9 to read as follows:

§ 1506.9 Filing requirements.

(a) Environmental impact statements together with comments and responses shall be filed with the Environmental Protection Agency, attention Office of Federal Activities, EIS Filing Section, Ariel Rios Building (South Oval Lobby), Mail Code 2252-A, Room 7220, 1200 Pennsylvania Ave., NW., Washington, DC 20460. This address is for deliveries by US Postal Service (including USPS Express Mail).

(b) For deliveries in-person or by commercial express mail services, including Federal Express or UPS, the correct address is: US Environmental Protection Agency, Office of Federal Activities, EIS Filing Section, Ariel Rios Building (South Oval Lobby), Room 7220, 1200 Pennsylvania Avenue, NW., Washington, DC 20004.

(c) Statements shall be filed with the EPA no earlier than they are also transmitted to commenting agencies and made available to the public. EPA shall deliver one copy of each statement to the Council, which shall satisfy the requirement of availability to the President. EPA may issue guidelines to agencies to implement its responsibilities under this section and § 1506.10.

Dated: July 12, 2005.
Dinah Bear,
General Counsel, Council on Environmental Quality.

[FR Doc. 05-14016 Filed 7-15-05; 8:45 am]

BILLING CODE 3125-01-M